DEPARTMENT OF TRANSPORTATION

Federal Highway Administration

Environmental Impact Statement: Middlesex County, CT

AGENCY: Federal Highway Administration (FHWA), Department of Transportation (DOT).

ACTION: Notice of intent.

SUMMARY: The FHWA is issuing this notice to advise the public that an environmental impact statement will be prepared for proposed transportation improvements in Middlesex County, Connecticut.

FOR FURTHER INFORMATION CONTACT: Bradley D. Keazer, Division Administrator, Federal Highway Administration, 628-2 Hebron Avenue, Suite 303, Glastonbury, Connecticut 06033, telephone (860) 659-6703; or Edgar T. Hurle, Director of Environmental Planning, Connecticut Department of Transportation, 2800 Berlin Turnpike, Newington, CT 06111, telephone: (860) 594-2920.

SUPPLEMENTARY INFORMATION: The FHWA, in cooperation with the Connecticut Department of Transportation (ConnDOT), will prepare an environmental impact statement (EIS) on a proposal for transportation improvements in the Route 9 corridor, in the city of Middletown, located between the Washington Street intersection and the bridge over the Mattabesset River for a distance of approximately 6000 feet (1800 meters).

Improvements to the corridor are considered necessary to provide for the existing and projected traffic demand. Alternatives under consideration include: (1) Taking no action; (2) using alternate travel modes; and (3) construction of a new interchange to provide improved access to the Arrigoni Bridge and Main Street (Route 66) and elimination of the existing traffic signals on Route 9 at the Hartford Avenue and Washington Street intersections.

Letters describing the proposed action and soliciting comments will be sent to appropriate Federal, State, and local agencies, the Middletown Route 9 Corridor Advisory Committee, and to private organizations and citizens who have previously expressed or are known to have an interest in this proposal. Public scoping meetings and a public hearing will be held. Public notice will be given of the time and place of the meetings and hearing. The draft EIS will be available for public and agency review and comment prior to the public hearing.

To ensure that the full range of issues related to this proposed action are addressed and all significant issues identified, comments and suggestions are invited from all interested parties. Comments or questions concerning this proposed action and the EIS should be directed to the FHWA at the address provided above.

(Catalog of Federal Domestic Assistance Program Number 20.205, Highway Planning and Construction. The regulations implementing Executive Order 12372 regarding intergovernmental consultation on Federal programs and activities apply to this program.)

Authority: 23 CFR Part 771.

Issued on: July 29, 2002.
Bradley D. Keazer,
Division Administrator, Hartford, Connecticut.

[FR Doc. 02-20170 Filed 8-8-8; 8:45 am]

BILLING CODE 4910-22-M